DEPARTMENT OF THE INTERIOR

Bureau of Reclamation

Odessa Subarea Special Study; Adams, Franklin, Grant, Lincoln and Walla Walla Counties, WA

AGENCY: Bureau of Reclamation, Interior.

ACTION: Notice of Intent to prepare an Environmental Impact Statement.

SUMMARY: Pursuant to section 102(2)(C) of the National Environmental Policy Act of 1969, as amended, the Bureau of Reclamation (Reclamation) proposes to prepare an Environmental Impact Statement (EIS) for the Odessa Subarea Special Study. The Washington Department of Ecology (Ecology) is a joint lead with Reclamation in the preparation of this Environmental Impact Statement which will also be used to comply with requirements of the Washington State Environmental Policy Act (SEPA).

The purpose of Reclamation's Odessa Subarea Special Study is to evaluate alternatives that would deliver project water from the Columbia Basin Project (CBP) to lands currently using groundwater for irrigation in the Odessa Ground Water Management Subarea. The Study is needed to fulfill the obligation Reclamation made in a Memorandum of Agreement between the State of Washington (State) and the Project irrigation districts in December 2004, which included cooperating on a study to explore opportunities for delivery of Columbia Basin Project water to existing groundwater-irrigated lands within the Odessa Subarea.

Action is needed to avoid significant economic loss, in the near term, to the region's agricultural sector because of resource conditions associated with continued decline of the aquifers in the Odessa Subarea. Groundwater in the Odessa Subarea is currently being depleted to such an extent that water must be pumped from great depths. Pumping depths are 750 feet in some areas, and well depths are as great as 2,100-2,400 feet. Well drilling costs and pumping water from this depth have resulted in expensive power costs and water quality concerns such as high water temperatures and high sodium concentrations.

The ability of farmers to irrigate their crops is at risk. Domestic, commercial, municipal, and industrial uses and water quality are also affected. Those irrigating with wells of lesser depth live with uncertainty about future well production.

Washington State University conducted a regional economic impact study assessing the effects of lost potato production and processing in Adams, Franklin, Grant, and Lincoln counties from continued aquifer decline. Assuming that all potato production and processing is lost from the region, the analysis estimated the regional economic impact would be a loss of about $630 million dollars annually in regional sales, a loss of 3,600 jobs, and a loss of $211 million in regional income (Bhattacharjee and Holland 2005).

DATES: Scoping meetings will be held on September 10, 2008 and Sept 11, 2008, from 7 to 9 p.m., at the locations indicated under the ADDRESSES section. Written comments will be accepted through September 19, 2008, for inclusion in the scoping summary document. Requests for sign language interpretation for the hearing impaired or other special assistance needs should be submitted to Ellen Berggren as indicated under the FOR FUTHER INFORMATION CONTACT section by August 27, 2008.

ADDRESSES: Meetings will be held at:

• Town of Coulee Dam Town Hall, 300 Lincoln Avenue, Coulee Dam, WA 99116 (September 10, 2008);

• The Advanced Technologies Education Center (ATEC), Big Bend Community College, 7611 Bolling Street, NE., Moses Lake, WA 98837 (September 11, 2008).

The meeting facilities are physically accessible to people with disabilities.

Comments and requests to be added to the mailing list may be submitted to Bureau of Reclamation, Pacific Northwest Regional Office, Attention: Ellen Berggren, Activity Manager, 1150 N. Curtis Rd., Suite 100, Boise, ID 83706. Comments may also be submitted electronically to StudyManager@pn.usbr.gov.

FOR FURTHER INFORMATION CONTACT: Contact Ellen Berggren, Activity Manager, Telephone (208) 378-5090. TTY users in Washington may dial the following numbers to obtain a toll free TTY relay: 800-833-6384(V); for the hearing impaired 800-833-6388(T); for the deaf.

Information on this project can also be found at: http://www.usbr.gov/pn/programs/ucao_misc/odessa/index.html.

SUPPLEMENTARY INFORMATION: The Columbia Basin Project is a multipurpose water development project in the central part of the State of Washington (State). The Grand Coulee Dam Project was authorized for construction by the Act of August 30, 1935, and reauthorized and renamed in the Columbia Basin Project Act of March 10, 1943. Congress authorized the CBP to irrigate a total of 1,029,000 acres; about 671,000 acres are currently irrigated.

Section 9(a) of the Reclamation Project Act of 1939 gave authority to the Secretary of the Interior (Secretary) to approve a finding of feasibility and thereby authorize construction of a project upon submitting a report to the President and the Congress. The Secretary approved a plan of development for the Columbia Basin Project, known as House Document No. 172 in 1945. House Document No. 172 anticipated that development of the Columbia Basin Project would occur in phases over a 70-year period. Reclamation is authorized to implement additional development phases as long as the Secretary finds it to be economically justified and financially feasible. The Odessa Subarea Special Study is conducted under the authority of the Columbia Basin Project Act of 1943, as amended, and the Reclamation Act of 1939.

In response to the public's concern about the declining aquifer and associated economic and other effects, Congress has funded Reclamation to investigate this problem. The State of Washington has partnered with Reclamation by providing funding and collaborating on various technical studies.

The State, Reclamation, and irrigation districts signed the Columbia River Initiative Memorandum of Understanding (CRI MOU) in December 2004, to promote a cooperative process for implementing activities to improve Columbia River water management and water management within the Columbia Basin Project. The Odessa Subarea Special Study implements Section 15 of the CRI MOU, which states in part that, “The parties will cooperate to explore opportunities for delivery of water to additional existing agricultural lands within the Odessa Subarea.” In February 2006, the State legislature passed the Columbia River Water Resource Management Act (HB 2860) that directs Ecology to aggressively pursue development of water benefiting both instream and out-of-stream uses through storage, conservation, and voluntary regional water management agreements. Among the activities identified in the legislation, Ecology is directed to focus on “development of alternatives to ground water for agricultural users in the Odessa subarea aquifer.” Ecology is participating in the Odessa Subarea Special Study to provide support for state and local agency permit decisions that will likely be necessary to implement a water delivery project.

Reclamation is developing alternatives to replace the current and increasingly unreliable groundwater supplies used for irrigation with a surface supply as part of continued phased development of the Columbia Basin Project. Reclamation can only deliver water to lands authorized to receive Columbia Basin Project water. An estimated 170,000 acres within the Odessa Subarea are now being irrigated with groundwater with an estimated 140,000 of these acres eligible to receive Project surface water. Reclamation is considering alternatives that would provide a replacement surface water supply for up to 140,000 groundwater-irrigated acres within the Study area. Alternatives include two main components.

• Water conveyance; this component consists of infrastructure such as canals, pumping plants and laterals to deliver surface water to groundwater-irrigated lands. These could include building a new East High canal system and reregulating reservoir in Black Rock Coulee north of Interstate 90 and/or expanding the capacity of the existing East Low Canal system and building a 2.3 mile extension.

• Water supply; this component consists of storage facilities that could store the replacement surface water supply for later use in the Odessa Subarea. These involve modifying operations at Banks Lake and/or constructing a new reservoir in Rocky Coulee.

Alternatives would involve various combinations and configurations of these water conveyance and water supply components.

Public Involvement

Reclamation will conduct public scoping meetings to solicit comments on the alternatives developed to address the concerns in the Odessa Subarea and to identify potential issues and impacts associated with those alternatives. Reclamation will summarize comments received during the scoping meetings and from letters of comment received during the scoping period, identified under the DATES section, into a scoping summary document that will be made available to those who have provided comments. It will also be available to others upon request.

If you wish to comment, you may mail us your comments as indicated under the ADDRESSES section. Our practice is to make comments, including names, home addresses, home phone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

J. William McDonald,
Regional Director, Pacific Northwest Region.

[FR Doc. E8-19376 Filed 8-20-08; 8:45 am]

BILLING CODE 4310-MN-P